DEPARTMENT OF THE TREASURY

Agency Information Collection Activities; Submission for OMB Review; Comment Request; Multiple Tax and Trade Bureau Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before March 2, 2020 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Spencer W. Clark by emailing PRA@treasury.gov, calling (202) 927-5331, or viewing the entire information collection request at www.reginfo.gov.

SUPPLEMENTARY INFORMATION:

Alcohol and Tobacco Tax and Trade Bureau (TTB)

1. Title: Drawback on Wines Exported.

OMB Control Number: 1513-0016.

Type of Review: Extension without change of a currently approved collection.

Description: In general, the Internal Revenue Code (IRC) at 26 U.S.C. 5041 imposes Federal excise tax on wine produced or imported into the United States, while section 5362(c) allows domestic wine to be exported, transferred to a foreign trade zone, or used on certain vessels and aircraft without payment of that tax. In the case of taxpaid domestic wine that is subsequently exported, the IRC at 26 U.S.C. 5062(b) provides that exporters of such wine may claim “drawback” (refund) of the Federal excise tax paid or determined on the exported wine. Under the Alcohol and Tobacco Tax and Trade Bureau (TTB) regulations in 27 CFR part 28, Exportation of Alcohol, exporters of taxpaid domestic wine use form TTB F 5120.24 to document the wine's exportation and to submit drawback claims for the Federal excise taxes paid on the exported wine. TTB uses the provided information to determine if the exported wine is eligible for drawback and to verify the amount of drawback claimed by the exporter. This information collection is necessary to protect the revenue.

Form: TTB F 5120.25.

Affected Public: Businesses or other for-profits.

Estimated Number of Respondents: 40.

Frequency of Response: On occasion.

Estimated Total Number of Annual Responses: 160.

Estimated Time per Response: 67 minutes.

Estimated Total Annual Burden Hours: 179 hours.

2. Title: Specific and Continuing Transportation Bonds—Distilled Spirits or Wines Withdrawn for Transportation to Manufacturing Bonded Warehouse, Class Six.

OMB Control Number: 1513-0031.

Type of Review: Extension without change of a currently approved collection.

Description: The Internal Revenue Code (IRC) at 26 U.S.C. 5214(a)(6) and 5362(c)(4) authorizes the transfer without payment of Federal excise tax of, respectively, distilled spirits and wine from a bonded premises to certain customs bonded warehouses for subsequent exportation. However, to protect the revenue, the customs laws at 19 U.S.C. 1311 requires bonds for such transfers of non-taxpaid goods. To provide proprietors of manufacturing bonded warehouses with operational flexibility based on individual need, the Alcohol and Tobacco Tax and Trade Bureau (TTB) alcohol export regulations in 27 CFR part 28 allow the filing of either a specific transportation bond using form TTB F 5100.12 to cover a single shipment from a bonded premises to a manufacturing bonded warehouse, or a continuing transportation bond using form TTB F 5110.67 to cover multiple shipments.

Form: TTB F 5100.12, TTB F 5110.67.

Affected Public: Businesses or other for-profits.

Estimated Number of Respondents: 50.

Frequency of Response: On occasion.

Estimated Total Number of Annual Responses: 50.

Estimated Time per Response: 1 hour.

Estimated Total Annual Burden Hours: 50.

3. Title: Letterhead Applications and Notices Relating to Denatured Spirits.

OMB Control Number: 1513-0061.

Type of Review: Revision of a currently approved collection.

Description: Under the Internal Revenue Code (IRC) at 26 U.S.C. 5214, denatured spirits (alcohol to which denaturants have been added to render it unfit for beverage purposes) may be withdrawn from distilled spirits plants free of tax for nonbeverage industrial purposes in the manufacture of certain personal and household products. Since it is possible to recover potable alcohol from denatured spirits and articles made with denatured spirits, the IRC at 26 U.S.C. 5271-5275 sets forth provisions relating to denatured spirits and articles made with denatured spirits. Under those IRC authorities, the Alcohol and Tobacco Tax and Trade Bureau (TTB) regulations in 27 CFR part 20 require specially denatured spirits (SDS) dealers and manufacturers of nonbeverage products made with denatured alcohol to apply for and obtain a permit. In addition, the part 20 regulations that concern this information collection require such permit holders to submit letterhead applications and notices to TTB regarding certain changes to permit information, use of alternate methods and emergency variations from requirements, adoption or use of certain formulas, discontinuance of business, losses in transit, and requests to waive certain sample shipment and invoice requirements. The information collected implements the IRC's statutory provisions regarding denatured spirits.

Form: None.

Affected Public: Businesses or other for-profits; State, local and tribal governments.

Estimated Number of Respondents: 3,800.

Frequency of Response: On occasion.

Estimated Total Number of Annual Responses: 3,800.

Estimated Time per Response: 30 minutes.

Estimated Total Annual Burden Hours: 1,900.

4. Title: COLAs Online Access Request.

OMB Control Number: 1513-0111.

Type of Review: Extension without change of a currently approved collection.

Description: To provide consumers with adequate information as to the identity of alcohol beverages and prohibit consumer deception, the Federal Alcohol Administration Act (FAA Act) at 26 U.S.C. 205, and the Alcohol and Tobacco Tax and Trade Bureau (TTB) regulations in 27 CFR parts 4, 5, and 7 that implement that section, require alcohol beverage bottlers and importers to apply for Certificates of Label Approval (COLAs) for such products introduced into interstate commerce or released from customs custody. Domestic bottlers also must apply for COLA exemptions for certain alcohol beverage products that will not be introduced into interstate or foreign commerce. Respondents may complete and submit COLA and COLA exemption applications electronically using TTB's COLAs Online system. To protect TTB computer systems from cyber threats and misuse, persons desiring to use the COLAs Online system must first submit receive TTB approval of a COLAs Online Access Request. The collected information identifies the applicant and confirms their authority to act on behalf of a specific alcohol beverage industry member. Applicants submit COLAs Online Access Requests electronically using the COLAs Online User Registration function or its paper equivalent, TTB F 5013.2, COLAs Online Access Request.

Form: TTB F 5013.2.

Affected Public: Businesses or other for-profits.

Estimated Number of Respondents: 3,000.

Frequency of Response: Once, On occasion.

Estimated Total Number of Annual Responses: 3,000.

Estimated Time per Response: 18 minutes.

Estimated Total Annual Burden Hours: 900.

5. Title: Customer Satisfaction Surveys for Permit Applications, Permits Online (PONL), Formulas Online (FONL), and COLAs Online.

OMB Control Number: 1513-0124.

Type of Review: Extension without change of a currently approved collection.

Description: As part of the Alcohol and Tobacco Tax and Trade Bureau's (TTB's) efforts to improve customer service, we survey customers who submit applications for original or amended alcohol or tobacco permits, or for approval of alcohol beverage formulas or certificates of label approval (COLAs). These surveys assist TTB in identifying potential customer needs and problems, along with opportunities for improvement in our applications processes, with particular focus on customer experiences with TTB's various electronic application systems, Permits Online (PONL), Formulas Online (FONL), and COLAs Online.

Form: None.

Affected Public: Businesses or other for-profits.

Estimated Number of Respondents: 20,000.

Frequency of Response: Once.

Estimated Total Number of Annual Responses: 20,000.

Estimated Time per Response: 12 minutes.

Estimated Total Annual Burden Hours: 4,000.

Authority: 44 U.S.C. 3501 et seq.

Dated: January 27, 2020.
Spencer W. Clark,
Treasury PRA Clearance Officer.

[FR Doc. 2020-01716 Filed 1-29-20; 8:45 am]

BILLING CODE 4810-31-P